DEPARTMENT OF THE INTERIOR

Fish and Wildlife Service

50 CFR Part 17

[Docket No. FWS-HQ-ES-2016-0097; 4500030115]

RIN 1018-BB69

Endangered and Threatened Wildlife and Plants; Taxonomic Correction for the Grand Cayman Ground Iguana

AGENCY: Fish and Wildlife Service, Interior.

ACTION: Direct final rule.

SUMMARY: We, the U.S. Fish and Wildlife Service (Service), announce the revised taxonomy of Cyclura nubila lewisi (Grand Cayman ground iguana) under the Endangered Species Act of 1973, as amended (Act). We are revising the List of Endangered and Threatened Wildlife to reflect the current scientifically accepted taxonomy and nomenclature of this species: Cyclura lewisi (Grand Cayman blue iguana). This action that does not alter the regulatory protections afforded to this species.

DATES: This rule will become effective on November 14, 2016, without further action, unless we receive significant scientific information that provides strong justifications as to why this rule should not be adopted or why it should be changed on or before October 12, 2016. If significant scientific information is received regarding why this rule should not be adopted or changed, we will publish a timely withdrawal of the rule in the Federal Register.

ADDRESSES: You may submit comments by one of the following methods:

• Federal eRulemaking Portal: http://www.regulations.gov. In the Search box, enter FWS-HQ-ES-2016-0097, which is the docket number for this rulemaking. Then click on the Search button. You may submit a comment by clicking on “Comment Now!”

• U.S. mail or hand-delivery: Public Comments Processing, Attn: FWS-HQ-ES-2016-0097; Division of Policy, Performance, and Management Programs, U.S. Fish and Wildlife Service, 5275 Leesburg Pike, MS: BPHC, Falls Church, VA 22041-3808.

We will post all comments on http://www.regulations.gov. This generally means that we will post any personal information you provide us (see Public Comments, below, for more information).

FOR FURTHER INFORMATION CONTACT: Janine Van Norman, Branch Chief, Foreign Species Branch, Ecological Services Program, U.S. Fish and Wildlife Service, 5275 Leesburg Pike, MS: ES, Falls Church, VA 22041; telephone 703-358-2171; facsimile 703-358-1735. If you use a telecommunications device for the deaf (TDD), call the Federal Information Relay Service (FIRS) at 800-877-8339.

SUPPLEMENTARY INFORMATION:

Public Comments

You may submit your comments and materials regarding this direct final rule by one of the methods listed in ADDRESSES. Please include sufficient information with your comments to allow us to verify any scientific or commercial information you include. We will not consider comments sent by email or fax, or to an address not listed in ADDRESSES.

We will post all comments on http://www.regulations.gov. This generally means that we will post any personal information that you provide to us. Before including your address, phone number, email address, or other personal information in your comment, you should be aware that your entire comment—including your personal identifying information—may be made publicly available at any time. While you can ask us in your comment to withhold your personal identifying information from public review, we cannot guarantee that we will be able to do so.

Comments and materials we receive, as well as supporting documentation we used in preparing this direct final rule, will be available for public inspection on the Internet at http://www.regulations.gov or by appointment, during normal business hours at the U.S. Fish and Wildlife Service, Falls Church, Virginia (see FOR FURTHER INFORMATION CONTACT). Please note that comments posted to http://www.regulations.gov are not immediately viewable. When you submit a comment, the system receives it immediately. However, the comment will not be publicly viewable until we post it, which might not occur until several days after submission.

Previous Federal Actions

On August 15, 1980, we published in the Federal Register (45 FR 54685) a notice of review of 18 species of foreign reptiles, including the Grand Cayman ground iguana (Cyclura nubila lewisi), to determine whether they should be proposed for listing as endangered or threatened species under the provisions of the Act (16 U.S.C. 1531 et seq.). On January 20, 1983, we published in the Federal Register a proposed rule to list the Grand Cayman ground iguana as an endangered species under the Act (48 FR 2562). On June 22, 1983, we published in the Federal Register (48 FR 28460) a final rule listing the Grand Cayman ground iguana (Cyclura nubila lewisi) as an endangered species under the Act.

Taxonomy of Cyclura nubila lewisi

The blue iguana native to the Grand Cayman Island was originally described as Cyclura macleayi lewisi Grant, 1940, a subspecies of the Cuban rock iguana (Burton 2012, unpaginated). In 1977, Schwartz and Carey reviewed the unique blue coloration of the Grand Cayman island population and noted that it was a distinct subspecies of Cyclura nubila and, thus, established the nomenclature, Cyclura nubila lewisi Grant (Burton 2004, p. 198). In 2004, the iguana was elevated from subspecies status (Cyclura nubila lewisi) to species-level status (Cyclura lewisi) (Burton 2012, unpaginated; Burton 2004, entire).

Taxonomic Correction

The Service's objective is to provide the protections of the Act to endangered and threatened species. Pursuant to 50 CFR 17.11(c), we use the most recently accepted scientific name for a listed species. We rely, to the extent practicable, on the Integrated Taxonomic Information System (ITIS) to determine a species' scientific name. ITIS incorporates the naming principles established by the International Code of Zoological Nomenclature. Because the International Code of Zoological Nomenclature, as well as the International Union for Conservation of Nature (IUCN) and the Convention on International Trade in Endangered Species of Wild Fauna and Flora (CITES), has accepted Cyclura lewisi as the appropriate taxonomy for the Grand Cayman ground iguana, and because this taxonomic change best reflects the scope of the Service's listing for this species, the Service is hereby adopting the scientific name Cyclura lewisi for the Grand Cayman ground iguana (Burton 2012, unpaginated; ITIS 2016, unpaginated; Burton 2004, entire).

Additionally, although 50 CFR 17.11(b) notes that common names cannot be relied upon for identification of any specimen, as they may vary greatly in local usage, the common name currently used by the Service, the Grand Cayman ground iguana, is not consistently used across scientific authorities. Therefore, for consistency, we are adopting the common name Grand Cayman blue iguana for this species to reflect Burton (2004, p. 198).

Use of Direct Final Rule

We are publishing this direct final rule without a prior proposal because this is a noncontroversial action that does not alter the scope of the animals that are protected or the regulatory protections afforded to this species. Rather, it reflects the current scientifically accepted taxonomy and nomenclature of the Grand Cayman blue iguana. Therefore, in the best interest of the public, we are taking this action to update the scientific and common names in as timely a manner as possible to eliminate confusion by adopting the accepted taxonomy and align the scientific name with CITES nomenclature, unless we receive significant scientific information that provides strong justifications as to why this rule should not be adopted or why it should be changed on or before the comment due date specified above in DATES. If we receive significant scientific information that provides strong justifications as to why this rule should not be adopted or why it should be changed, we will publish a document in the Federal Register withdrawing this rule before the effective date, and we will engage in the normal rulemaking process to promulgate these changes to 50 CFR 17.11.

Required Determinations

Clarity of the Rule

We are required by Executive Orders 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in ADDRESSES. To better help us revise the rule; your comments should be as specific as possible. For example, you should tell us the numbers of the sections or paragraphs that are unclearly written, which sections or sentences are too long, the sections where you feel lists or tables would be useful, etc.

National Environmental Policy Act

We have determined that an environmental assessment or an environmental impact statement, as defined under the authority of the National Environmental Policy Act of 1969 (42 U.S.C. 4321 et seq.), need not be prepared in connection with regulations adopted under section 4(a) of the Act. A notice outlining our reasons for this determination was published in the Federal Register on October 25, 1983 (48 FR 49244).

References Cited

A complete list of the references used to develop this rule is available upon request from the Foreign Species Branch (see FOR FURTHER INFORMATION CONTACT).

List of Subjects in 50 CFR Part 17

Endangered and threatened species, Exports, Imports, Reporting and recordkeeping requirements, Transportation.

Regulation Promulgation

Accordingly, we hereby amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; 4201-4245, unless otherwise noted.

2. Amend § 17.11(h), the List of Endangered and Threatened Wildlife, by removing the entry for “Iguana, Grand Cayman ground” and adding in alphabetical order an entry for “Iguana, Grand Cayman blue” under REPTILES to read as follows:

§ 17.11 Endangered and threatened wildlife.

* * * * *

(h) * * *

Common name | Scientific name | Where listed | Status | Listing citations and applicable rules
* * * * * * *
Reptiles
* * * * * * *
Iguana, Grand Cayman blue | Cyclura lewisi | Wherever found | E | 48 FR 28460; 6/22/1983.
* * * * * * *

* * * * *

Dated: September 2, 2016.
Brian Arroyo,
Acting Director, U.S. Fish and Wildlife Service.

[FR Doc. 2016-21845 Filed 9-9-16; 8:45 am]

BILLING CODE 4333-15-P